Title 3—

The President

Memorandum of January 29, 2020

Delegation of Certain Authority Under the Federal Service Labor-Management Relations Statute

Memorandum for the Secretary of Defense

By the authority vested in me as President by the Constitution and the laws of the United States of America, including section 301 of title 3, United States Code, it is hereby ordered as follows:

Section 1. Policy. The national security interests of the United States require expedient and efficient decisionmaking. When new missions emerge or existing ones evolve, the Department of Defense requires maximum flexibility to respond to threats to carry out its mission of protecting the American people. This flexibility requires that military and civilian leadership manage their organizations to cultivate a lethal, agile force adaptive to new technologies and posture changes. Where collective bargaining is incompatible with these organizations' missions, the Department of Defense should not be forced to sacrifice its national security mission and, instead, seek relief through third parties and administrative fora.

Sec. 2. Delegation of Authority to the Secretary of Defense. (a) The Secretary of Defense (Secretary) is delegated authority under 5 U.S.C. 7103(b)(1) and 7103(b)(2) to issue orders excluding Department of Defense agencies or subdivisions thereof from Federal Service Labor-Management Relations Statute coverage. The Secretary is authorized to further delegate this authority to any official of the Department of Defense appointed by the President with the advice and consent of the Senate.

(b) When making the determination required by 5 U.S.C. 7103(b)(1) or 7103(b)(2), the Secretary or other official delegated this authority pursuant to subsection (a) of this section shall publish this determination in the Federal Register.

(c) Any official to whom the Secretary of Defense delegates the authority pursuant to subsection (a) of this section may not further delegate this authority.

(d) For purposes of this memorandum, the term “Department of Defense agencies or subdivisions” includes without limitation the military departments.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

You are authorized and directed to publish this memorandum in the Federal Register.

THE WHITE HOUSE,

Washington, January 29, 2020

[FR Doc. 2020-03578

Filed 2-20-20; 8:45 am]

Billing code 5001-06-P